GENERAL SERVICES ADMINISTRATION

[FMR Bulletin PBS-2010-B4; Docket 2010-0005; Sequence 10]

Federal Management Regulation; FMR Bulletin PBS-2010-B4; Redesignation of Federal Building

AGENCY: Public Buildings Service (P), General Services Administration.

ACTION: Notice of a bulletin.

SUMMARY: The attached bulletin announces the redesignation of a Federal building.

DATES: Expiration Date: This bulletin expires December 31, 2010. However, the building redesignation announced by this bulletin will remain in effect until canceled or superseded.

FOR FURTHER INFORMATION CONTACT: U.S. General Services Administration, Public Buildings Service (P), Attn: David E. Foley, 1800 F Street, NW., Washington, DC 20405, e-mail at david.foley@gsa.gov. (202) 501-1100.

Dated: July 16, 2010.
Martha Johnson,
Administrator of General Services.

U.S. GENERAL SERVICES ADMINISTRATION

REDESIGNATION OF FEDERAL BUILDING-

TO: Heads of Federal Agencies

SUBJECT: Redesignation of Federal Building

1. What is the purpose of this bulletin? This bulletin announces the redesignation of a Federal building.

2. When does this bulletin expire? This bulletin expires December 31, 2010. However, the building redesignation announced by this bulletin will remain in effect until canceled or superseded.

3. Redesignation. The former and new name of the redesignated building is as follows:

Former Name | New Name
United States Department of the | Stewart Lee Udall Department of the
Interior Building | Interior Building
1849 C Street, NW | 1849 C Street, NW
Washington, DC 20240 | Washington, DC 20240

4. Who should we contact for further information regarding redesignation of this Federal building? U.S. General Services Administration, Public Buildings Service (P), Attn: David E. Foley, 1800 F Street, NW, Washington, DC 20405, telephone number: (202) 501-1100, e-mail at david.foley@gsa.gov.

Dated: July 16, 2010

Martha Johnson,

Administrator of General Services.

[FR Doc. 2010-18467 Filed 7-27-10; 8:45 am]

BILLING CODE 6820-23-P